DEPARTMENT OF TRANSPORTATION

Federal Aviation Administration

[Docket No. 2010-1052]

Airport Privatization Pilot Program

AGENCY: Federal Aviation Administration (FAA), DOT.

ACTION: Notice of Receipt and Acceptance for Review: Preliminary Application for Airglades Airport (2IS), Clewiston, Florida.

SUMMARY: The Federal Aviation Administration (FAA) has completed its review of Hendry County and Airglades Airport's preliminary application for participation in the airport privatization pilot program received under 49 U.S.C. Section 47134. The preliminary application is accepted for review, with a filing date of October 6, 2010. Hendry County, the airport sponsor, may select a private operator, negotiate an agreement and submit a final application to the FAA for exemption under the pilot program.

49 U.S.C. Section 47134 establishes an airport privatization pilot program and authorizes the Department of Transportation to grant exemptions from certain Federal statutory and regulatory requirements for up to five airport privatization projects. The application procedures require the FAA to publish a notice in the Federal Register after review of a preliminary application. The FAA must publish a notice of receipt of the final application in the Federal Register for public review and comment for a sixty-day period. The Airglades Airport preliminary application is available for public review at http://www.regulations.gov. The docket number is FAA Docket Number 2010-1052.

FOR FURTHER INFORMATION CONTACT: Dave Cushing (202-267-8348) Airport Compliance Division, ACO-100, Federal Aviation Administration, 800 Independence Ave., SW., Washington, DC 20591.

SUPPLEMENTARY INFORMATION:

Introduction and Background

Title 49 of the U.S. Code 47134 authorizes the Secretary of Transportation, and through delegation, the FAA Administrator, to exempt a sponsor of a public use airport that has received Federal assistance, from certain Federal requirements in connection with the privatization of the airport by sale or lease to a private party. Specifically, the Administrator may exempt the sponsor from all or part of the requirements to use airport revenues for airport-related purposes, to pay back a portion of Federal grants upon the sale or lease of an airport, and to return airport property deeded by the Federal Government upon transfer of the airport. The Administrator is also authorized to exempt the private purchaser or lessee from the requirement to use all airport revenues for airport-related purposes, to the extent necessary to permit the purchaser or lessee to earn compensation from the operations of the airport.

On September 16, 1997, the Federal Aviation Administration issued a notice of procedures to be used in applications for exemption under Airport Privatization Pilot Program (62 FR 48693). A request for participation in the Pilot Program must be initiated by the filing of either a preliminary or final application for exemption with the FAA.

Hendry County submitted an initial preliminary application to the Airport Privatization Pilot Program for Airglades Airport on August 31, 2010. The FAA requested additional information and Hendry County submitted that information on October 6, 2010— the filing date of this preliminary application. The County may select a private operator, negotiate an agreement and submit a final application to the FAA for exemption.

If FAA accepts the final application for review, the application will be made available for public review and comment for a sixty-day period.

Issued in Washington, DC on October 20, 2010.
Randall S. Fiertz,
Director, Office of Airport Compliance and Field Operations.

[FR Doc. 2010-27896 Filed 11-3-10; 8:45 am]

BILLING CODE P